DEPARTMENT OF HOMELAND SECURITY

Coast Guard

[Docket No. USCG-2009-0973]

Random Drug Testing Rate for Covered Crewmembers

AGENCY: Coast Guard, DHS.

ACTION: Notice of minimum random drug testing rate.

SUMMARY: The Coast Guard has set the calendar year 2011 minimum random drug testing rate at 50 percent of covered crewmembers.

DATES: The minimum random drug testing rate is effective January 1, 2011 through December 31, 2011. Marine employers must submit their 2010 Management Information System (MIS) reports no later than March 15, 2011.

ADDRESSES: Annual MIS reports may be submitted to Commandant (CG-545), U.S. Coast Guard Headquarters, 2100 Second Street, SW., STOP 7561, Washington, DC 20593-7581 or by electronic submission to the following Internet address: http://homeport.uscg.mil/Drugtestreports.

FOR FURTHER INFORMATION CONTACT: For questions about this notice, please contact Mr. Robert C. Schoening, Drug and Alcohol Program Manager, Office of Investigations and Casualty Analysis (CG-545), U.S. Coast Guard Headquarters, telephone 202-372-1033. If you have questions on viewing or submitting material to the docket, call Renee V. Wright, Program Manager, Docket Operations, telephone 202-366-9826.

SUPPLEMENTARY INFORMATION: Under 46 CFR 16.230, the Coast Guard requires marine employers to establish random drug testing programs for covered crewmembers on inspected and uninspected vessels.

Every marine employer is required by 46 CFR 16.500 to collect and maintain a record of drug testing program data for each calendar year, and submit this data by 15 March of the following year to the Coast Guard in an annual MIS report. Marine employers may either submit their own MIS reports or have a consortium or other employer representative submit the data in a consolidated MIS report.

The purpose of setting a minimum random drug testing rate is to assist the Coast Guard in analyzing its current approach for deterring and detecting illegal drug abuse in the maritime industry. The testing rate for calendar year 2010 was 50 percent.

The Coast Guard may lower this rate if, for two consecutive years, the drug test positive rate is less than 1.0 percent, in accordance with 46 CFR 16.230(f)(2).

Since 2009 MIS data indicates that the positive rate is greater than one percent industry-wide (1.03 percent), the Coast Guard announces that the minimum random drug testing rate will continue at 50 percent of covered employees for the period of January 1, 2011 through December 31, 2011 in accordance with 46 CFR 16.230(e).

Each year, the Coast Guard will publish a notice reporting the results of random drug testing for the previous calendar year's MIS data and the minimum annual percentage rate for random drug testing for the next calendar year.

Dated: December 23, 2010.
Kevin S. Cook,
Rear Admiral, U.S. Coast Guard, Director of Prevention Policy.

[FR Doc. 2011-170 Filed 1-7-11; 8:45 am]

BILLING CODE 9110-04-P